DEPARTMENT OF HEALTH AND HUMAN SERVICES

Health Resources and Services Administration

Ryan White HIV/AIDS Program, Part F AIDS Education and Training Centers

AGENCY: Health Resources and Services Administration, HHS.

ACTION: Notice of non-competitive, HRSA-initiated, Secretary's Minority AIDS Initiative Fund (SMAIF) supplemental funding award: Fiscal Year (FY) 2017 Ryan White HIV/AIDS Program (RWHAP) AIDS Education and Training Centers (AETC) to the National Clinician Consultation Center (NCCC) at the University of California, San Francisco.

SUMMARY: This non-competitive supplemental funding award will provide a phone consultation line staffed by clinicians dedicated to providing technical support and real-time clinical consultation to health professionals who treat people living with HIV (PLWH) who are coinfected with the hepatitis C virus (HCV).

FOR FURTHER INFORMATION CONTACT: Ms. Sherrillyn Crooks, Chief, HIV Education Branch, HIV/AIDS Bureau, Health Resources and Services Administration, 5600 Fishers Lane, 09N09, Rockville, MD 20857, Phone: (301) 443-7662, Email: scrooks@hrsa.gov.

SUPPLEMENTARY INFORMATION:

Intended Recipient of the Award: The University of California, San Francisco.

Amount of Non-Competitive Award: $200,000.

Period of Funding: July 1, 2017, through June 30, 2018.

CFDA Number: 93.145.

Authority: The Consolidated Appropriations Act, 2017 (Pub. L. 115-31), Division H, Title II.

Justification

HRSA's SMAIF HIV/HCV initiatives seek to improve the prevention, screening, care, treatment, and cure of HCV in areas affected by HIV/HCV coinfection, particularly in disproportionately affected low-income, uninsured and underserved racial and ethnic minority populations in the United States. Despite the fact that HIV treatment outcomes continue to improve among PLWH, HIV/HCV coinfection remains a major concern with approximately one quarter of PLWH also coinfected with HCV.

The University of California, San Francisco's NCCC is funded under the RWHAP AETC Program, which comprises a network of three national centers and eight regional centers (with more than 130 local affiliated sites) that conduct targeted, multidisciplinary education, training, and technical assistance to health care providers who treat PLWH. The NCCC provides nationwide expert technical support, and clinical consultation services to health professionals who treat PLWH. Supplemental funding will enable the NCCC to leverage its existing infrastructure to add an HIV/HCV phone consultation line to deliver immediate clinical consultation and education services to RWHAP clinical providers funded through the SMAIF HIV/HCV initiatives and to clinical providers nationwide. Clinical providers will receive guidance based on up-to-date clinical HCV guidelines. Subject to the availability of funds and the recipient's satisfactory performance, up to $200,000 will also be awarded in FY18 (budget period July 1, 2018 through June 30, 2019) and FY19 (budget period July 1, 2019 through June 30, 2020).

Denial of this request will prevent RWHAP clinical providers from achieving the goals of the SMAIF HIV/HCV initiative and from gaining critical and immediate access to a national network of HIV/HCV resources, including clinical experts who would provide education and technical assistance that meets the unique needs of this initiative.

Dated: September 14, 2017.
George Sigounas,
Administrator.

[FR Doc. 2017-20687 Filed 9-26-17; 8:45 am]

BILLING CODE 4165-15-P